DEPARTMENT OF HOMELAND SECURITY

Federal Emergency Management Agency

[Docket ID FEMA-2022-0002; Internal Agency Docket No. FEMA-B-2295]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management, Federal Emergency Management Agency, Department of Homeland Security.

State and county | Location and case No. | Chief executive officer of community | Community map repository | Online location of letter of map revision | Date of modification | Community No.
Arizona:
Maricopa | City of Peoria (22-09-0532P). | The Honorable Cathy Carlat, Mayor, City of Peoria, 8401 West Monroe Street, Peoria, AZ 85345. | City Hall, 8401 West Monroe Street, Peoria, AZ 85345. | https://msc.fema.gov/portal/advanceSearch. | Mar. 24, 2023 | 040050
Maricopa | Unincorporated Areas of Maricopa County (22-09-0532P). | The Honorable Bill Gates, Chair, Board of Supervisors, Maricopa County, 301 West Jefferson Street, 10th Floor, Phoenix, AZ 85003. | Flood Control District of Maricopa County, 2801 West Durango Street, Phoenix, AZ 85009. | https://msc.fema.gov/portal/advanceSearch. | Mar. 24, 2023 | 040037
California:
Los Angeles | City of Palmdale (20-09-1309P). | The Honorable Steven D. Hofbauer, Mayor, City of Palmdale, 38300 Sierra Highway, Palmdale, CA 93550. | Public Works Department, 38250 North Sierra Highway, Palmdale, CA 93550. | https://msc.fema.gov/portal/advanceSearch. | Feb. 15, 2023 | 060144
Placer | Unincorporated Areas of Placer County (21-09-1584P). | The Honorable Cindy Gustafson, Chair, Board of Supervisors, Placer County, 175 Fulweiler Avenue, Auburn, CA 95603. | Placer County Public Works, 3091 County Center Drive, Suite 220, Auburn, CA 95603. | https://msc.fema.gov/portal/advanceSearch. | Mar. 20, 2023 | 060239
Riverside | City of Lake Elsinore (22-09-0688P). | The Honorable Timothy J. Sheridan, Mayor, City of Lake Elsinore, City Hall, 130 South Main Street, Lake Elsinore, CA 92530. | Engineering Division, 130 South Main Street, Lake Elsinore, CA 92530. | https://msc.fema.gov/portal/advanceSearch. | Mar. 2, 2023 | 060636
Riverside | Unincorporated Areas of Riverside County (22-09-0688P). | The Honorable Jeff Hewitt, Chair, Board of Supervisors, Riverside County, 4080 Lemon Street, 5th Floor, Riverside, CA 92501. | Riverside County, Flood Control and Water Conservation District, 1995 Market Street, Riverside, CA 92501. | https://msc.fema.gov/portal/advanceSearch. | Mar. 2, 2023 | 060245
San Diego | City of Oceanside (21-09-0869P). | The Honorable Esther C. Sanchez, Mayor, City of Oceanside, 300 North Coast Highway, Oceanside, CA 92054. | City Hall, 300 North Coast Highway, Oceanside, CA 92054. | https://msc.fema.gov/portal/advanceSearch. | Feb. 21, 2023 | 060294
San Diego | Unincorporated Areas of San Diego County (22-09-0266P). | The Honorable Nathan Fletcher, Chair, Board of Supervisors, San Diego County, 1600 Pacific Highway, Room 335, San Diego, CA 92101. | San Diego County Flood Control District, Department of Public Works, 5510 Overland Avenue, Suite 410, San Diego, CA 92123. | https://msc.fema.gov/portal/advanceSearch. | Mar. 1, 2023 | 060284
Santa Clara | Unincorporated Areas of Santa Clara County (22-09-0043P). | The Honorable Mike Wasserman, President, Board of Supervisors, Santa Clara County, 70 West Hedding Street, 10th Floor East Wing, San Jose, CA 95110. | Santa Clara County, Department of Planning and Development, 70 West Hedding Street, 7th Floor East Wing, San Jose, CA 95110. | https://msc.fema.gov/portal/advanceSearch. | Mar. 23, 2023 | 060337
Ventura | City of Simi Valley (22-09-0287P). | The Honorable Keith L. Mashburn, Mayor, City of Simi Valley, 2929 Tapo Canyon Road, Simi Valley, CA 93063. | City Hall, 2929 Tapo Canyon Road, Simi Valley, CA 93063. | https://msc.fema.gov/portal/advanceSearch. | Mar. 3, 2023 | 060421
Idaho:
Ada | Unincorporated Areas of Ada County (21-10-0367P). | Chair Rod Beck, Ada County Board of County Commissioners, 200 West Front Street, 3rd Floor, Boise, ID 83702. | Ada County Development Service Office, 650 Main Street, Boise, ID 83702. | https://msc.fema.gov/portal/advanceSearch. | Mar. 30, 2023 | 160001
Bonneville | City of Ammon (21-10-1025P). | The Honorable Sean Coletti, Mayor, City of Ammon, 2135 South Ammon Road, Ammon, ID 83406. | City Hall, 2135 South Ammon Road, Ammon, ID 83406. | https://msc.fema.gov/portal/advanceSearch. | Feb. 1, 2023 | 160028
Bonneville | Unincorporated Areas of Bonneville County (21-10-1025P). | Roger Christensen, Chair, Bonneville County Board of Commissioners, 605 North Capital Avenue, Idaho Falls, ID 83402. | Bonneville County Courthouse, 605 North Capital Avenue, Idaho Falls, ID 83402. | https://msc.fema.gov/portal/advanceSearch. | Feb. 1, 2023 | 160027
Illinois:
Cook | City of Country Club Hills (22-05-2868P). | The Honorable James W. Ford, Mayor, City of Country Club Hills, 4200 West Main Street, Country Club Hills, IL 60478. | City Hall, 4200 West Main Street, Country Club Hills, IL 60478. | https://msc.fema.gov/portal/advanceSearch. | Mar. 14, 2023 | 170078
Kane | City of Aurora (22-05-1707P). | The Honorable Richard C. Irvin, Mayor, City of Aurora, 44 East Downer Place, Aurora, IL 60505. | City Hall, Engineering Department, 44 East Downer Place, Aurora, IL 60505. | https://msc.fema.gov/portal/advanceSearch. | Mar. 10, 2023 | 170320
Kane | Unincorporated Areas of Kane County (22-05-1707P). | The Honorable Corinne Pierog, Chair, Kane County Board, Kane County Government Center, 719 Batavia Avenue, Building A, Geneva, IL 60134. | Water Resources Department, Kane County Government Center, 719 South Batavia Avenue, Building A, Geneva, IL 60134. | https://msc.fema.gov/portal/advanceSearch. | Mar. 10, 2023 | 170896
Kendall | Village of Oswego (22-05-1225P). | The Honorable Troy Parlier, Village President, Village of Oswego, 100 Parkers Mill, Oswego, IL 60543. | Village Hall, 100 Parkers Mill, Oswego, IL 60543. | https://msc.fema.gov/portal/advanceSearch. | Jan. 13, 2023 | 170345
McHenry | Unincorporated Areas of McHenry County (22-05-1881P). | The Honorable Michael Buehler, Chairman, McHenry County Board, McHenry County Government Center, 2200 North Seminary Avenue, Woodstock, IL 60098. | McHenry County Government Center, 2200 North Seminary Avenue, Woodstock, IL 60098. | https://msc.fema.gov/portal/advanceSearch. | Feb. 6, 2023 | 170732
Will | Village of Plainfield (22-05-2125P). | The Honorable John F. Argoudelis, Village President, Village of Plainfield, 24401 West Lockport Street, Plainfield, IL 60544. | Village Hall, 24401 West Lockport Street, Plainfield, IL 60544. | https://msc.fema.gov/portal/advanceSearch. | Mar. 22, 2023 | 170771
Indiana: Lake | City of Hammond (22-05-2665P). | The Honorable Thomas M. McDermott, Jr., Mayor, City of Hammond, City Hall, 5925 Calumet Avenue, Hammond, IN 46320. | City Hall, 5925 Calument Avenue, Hammond, IN 46320. | https://msc.fema.gov/portal/advanceSearch. | Jan. 26, 2023 | 180134
Michigan:
Grand Traverse | Charter Township of Garfield (22-05-0580P). | Supervisor Chuck Korn, Township Board of Trustees, The Charter Township of Garfield, 3848 Veterans Drive, Traverse City, MI 49684. | Township Hall, 3848 Veterans Drive, Traverse City, MI 49684. | https://msc.fema.gov/portal/advanceSearch. | Jan. 23, 2023 | 260753
Grand Traverse | Township of Blair (22-05-0580P). | Supervisor Nicole Blonshine, Township of Blair, 2121 County Road 633, Grawn, MI 49637. | Township Hall, 2121 County Road 633, Grawn, MI 49637. | https://msc.fema.gov/portal/advanceSearch. | Jan. 23, 2023 | 260780
Nevada:
Clark | City of Henderson (22-09-0282P). | The Honorable Debra March, Mayor, City of Henderson, 240 South Water Street, Henderson, NV 89015. | Public Works Department, 240 South Water Street, Henderson, NV 89015. | https://msc.fema.gov/portal/advanceSearch. | Feb. 15, 2023 | 320005
Clark | Unincorporated Areas of Clark County (22-09-0282P). | The Honorable James B. Gibson, Chair, Board of Commissioners, Clark County, 500 South Grand Central Parkway, 6th Floor, Las Vegas, NV 89155. | Clark County, Office of the Director of Public Works, 500 South Grand Central Parkway, 2nd Floor, Las Vegas, NV 89155. | https://msc.fema.gov/portal/advanceSearch. | Feb. 15, 2023 | 320003
New York:
Erie | Town of Clarence (22-02-0024P). | Supervisor Patrick Casilio, Town of Clarence, 95 Franklin Street, Buffalo, NY 14202. | Town Hall, 1 Town Place, Clarence, NY 14031. | https://msc.fema.gov/portal/advanceSearch. | Mar. 7, 2023 | 360232
Nassau | City of Long Beach (21-02-0901P). | President Karen McInnis, City Council, City of Long Beach, City Hall, 1 West Chester Street, Long Beach, NY 11561. | City Hall, 1 West Chester Street, Long Beach, NY 11561. | https://msc.fema.gov/portal/advanceSearch. | Apr. 5, 2023 | 365338
Nassau | Town of Hempstead (21-02-0901P). | Supervisor Donald X. Clavin, Jr., Town of Hempstead, 1 Washington Street, Hempstead, NY 11550. | Town Hall, 1 Hempstead Street, Hempstead, NY 11550. | https://msc.fema.gov/portal/advanceSearch. | Apr. 5, 2023 | 360467
Ohio:
Hamilton | Unincorporated Areas of Hamilton County (22-05-2681P). | Stephanie Summerow Dumas, President, Hamilton County Board of Commissioners, 138 East Court Street, Room 603, Cincinnati, OH 45202. | Hamilton County Department of Public Works, 138 East Court Street, Room 800, Cincinnati, OH 45202. | https://msc.fema.gov/portal/advanceSearch. | Feb. 2, 2023 | 390204
Miami | City of Piqua (22-05-2031P). | Manager Paul L. Oberdorfer, City of Piqua, 201 West Water Street, Piqua, OH 45356. | City Hall, 201 West Water Street, Piqua, OH 45356. | https://msc.fema.gov/portal/advanceSearch. | Mar. 10, 2023 | 390400
Miami | Unincorporated Areas of Miami County (22-05-2031P). | President Ted S. Mercer, Miami County Board of Commissioners, 201 West Main Street, Troy, OH 45373. | Miami County Safety Building, 201 West Water Street, Troy, OH 45356. | https://msc.fema.gov/portal/advanceSearch. | Mar. 10, 2023 | 390398
Washington:
Benton | City of Richland (21-10-0652P). | The Honorable Michael Alvarez, Mayor, City of Richland, 625 Swift Boulevard, MS 04, Richland, WA 99352. | City Hall, 625 Swift Boulevard, Richland, WA 99352. | https://msc.fema.gov/portal/advanceSearch. | Jan. 12, 2023 | 535533
Chelan | City of Chelan (22-10-0154P). | The Honorable John Olson, Mayor, City of Chelan, P.O. Box 1669, Chelan, WA 98816. | City Hall, 135 East Johnson, Chelan, WA 98816. | https://msc.fema.gov/portal/advanceSearch. | Jan. 19, 2023 | 530017
Whitman | Unincorporated Areas of Whitman County (21-10-1053P). | Chair Michael Largent, Whitman County Board of Commissioners, 400 North Main Street, Colfax, WA 99111. | Whitman County City Government Office, 400 North Main Street, Colfax, WA 99111. | https://msc.fema.gov/portal/advanceSearch. | Feb. 10, 2023 | 530205
Wisconsin:
Brown | Unincorporated Areas of Brown County (21-05-4734P). | Troy Streckenbach, Executive, Brown County, P.O. Box 23600, Green Bay, WI 54305. | Brown County, Zoning Office, 305 East Walnut Street, Green Bay, WI 54301. | https://msc.fema.gov/portal/advanceSearch. | Feb. 16, 2023 | 550020
Marathon | City of Mosinee (21-05-4158P). | Administrator Jeff Gates, City of Mosinee, 225 Main Street, Mosinee, WI 54455. | City Hall, 225 Main Street, Mosinee, WI 54455. | https://msc.fema.gov/portal/advanceSearch. | Jan. 13, 2023 | 555567
Marathon | Village of Kronenwetter (21-05-4158P). | President Chris Voll, Village Board of Kronenwetter, 1582 Kronenwetter Drive, Kronenwetter, WI 54455. | Municipal Center, 1582 Kronenwetter Drive, Mosinee, WI 54455. | https://msc.fema.gov/portal/advanceSearch. | Jan. 13, 2023 | 550193
Marathon | Village of Rothschild (21-05-4158P). | President George Peterson, Village of Rothschild Board of Trustees, Rothschild Village Hall, 211 Grand Avenue, Rothschild, WI 54474. | Village Hall, 211 Grand Avenue, Rothschild, WI 54474. | https://msc.fema.gov/portal/advanceSearch. | Jan. 13, 2023 | 555577
Portage | Unincorporated Areas of Portage County (22-05-0525P). | Chair Al Haga, Jr., Portage County, 2140 Norway Pine Drive, Plover, WI 54467. | Portage County Courthouse, 1516 Church Street, Stevens Point, WI 54481. | https://msc.fema.gov/portal/advanceSearch. | Jan. 19, 2023 | 550572
Racine | Village of Sturtevant (22-05-1365P). | President Mike Rosenbaum, Village Board, Village of Sturtevant, 2801 89th Street, Sturtevant, WI 53177. | Village Hall, 2801 89th Street, Sturtevant, WI 53177. | https://msc.fema.gov/portal/advanceSearch. | Feb. 27, 2023 | 550353
Sheboygan | Unincorporated Areas of Sheboygan County (22-05-2161P). | Chair Vernon C. Koch, Sheboygan County Board of Supervisors, 508 New York Avenue, Room 311, Sheboygan, WI 53081. | Sheboygan County Administrative Building, 508 New York Avenue, Sheboygan, WI 53081. | https://msc.fema.gov/portal/advanceSearch. | Feb. 10, 2023 | 550424
Sheboygan | Village of Random Lake (22-05-2161P). | President Michael San Felippo, Village Board, Village of Random Lake, 96 Russell Drive, Random Lake, WI 53075. | Village Hall, 96 Russell Drive, Random Lake, WI 53075. | https://msc.fema.gov/portal/advanceSearch. | Feb. 10, 2023 | 550429

[FR Doc. 2022-26878 Filed 12-9-22; 8:45 am]

BILLING CODE 9110-12-P